DEPARTMENT OF ENERGY

Federal Energy Regulatory Commission

18 CFR part 35

[Docket No. RM02-12-000]

Standardization of Small Generator Interconnection Agreements and Procedures

August 12, 2004.

AGENCY: Federal Energy Regulatory Commission.

ACTION: Notice of request for supplemental comments.

SUMMARY: On July 24, 2003, the Commission issued a Notice of Proposed Rulemaking in this docket, with comments due on or before October 3, 2003.¹ Since we first requested comments, the small generator industry has continued to evolve. Moreover, several states have adopted new guidelines for small generator interconnections and the various stakeholders who participated in the Commission's Advance Notice of Proposed Rulemaking consensus process have continued working toward resolving various issues.²

¹ Standardization of Small Generator Interconnection Agreements and Procedures, Notice of Proposed Rulemaking, 60 FR 49974 (Aug. 19, 2003), FERC Stats. & Regs. ¶ 32,572 (2003).

² Standardization of Small Generator Interconnection Agreements and Procedures; Advance Notice of Proposed Rulemaking, 67 FR 54749 (Aug. 26, 2002), FERC Stats. & Regs. ¶ 35,544 (2002).

This notice gives interested parties the opportunity to share with the Commission meaningful progress that has been made by groups of stakeholders in resolving issues such as the appropriate technical standards for screens, the necessity for certain interconnection studies, and other modifications to proposed provisions. Commenters are invited to file joint supplemental comments with the Commission on or before October 1, 2004. The Commission will consider any new consensus proposals in the formulation of the Final Rule. However, the Commission will not consider comments that simply repeat prior arguments.

DATES: Comments are due October 1, 2004. Comments should be double spaced and include an executive summary. In order to facilitate the evaluation of comments, commenters are encouraged to file their comments electronically in WordPerfect, MS Word, Portable Document Format (PDF), or ASCII format.

ADDRESSES: Comments may be filed electronically via the eFiling link on the Commission's Web site at http://www.ferc.gov . Commenters unable to file comments electronically must send an original and 14 copies of their comments to: Federal Energy Regulatory Commission, Office of the Secretary, 888 First Street NE., Washington, DC, 20426. Comments should reference Docket No. RM02-12-000.

FOR FURTHER INFORMATION CONTACT: Kirk F. Randall (Technical Information), Office of Market, Tariffs and Rates, Federal Energy Regulatory Commission, 888 First Street, NE., Washington, DC 20426, (202) 502-8092.

Abraham Silverman (Legal Information), Office of the General Counsel, Federal Energy Regulatory Commission, 888 First Street, NE., Washington, DC 20426, (202) 502-6444.

SUPPLEMENTARY INFORMATION: On July 24, 2003, the Commission issued a Notice of Proposed Rulemaking in this docket, with comments due on or before October 3, 2003.³ Since we first requested comments, the small generator industry has continued to evolve. Moreover, several states have adopted new guidelines for small generator interconnections and the various stakeholders who participated in the Commission's Advance Notice of Proposed Rulemaking consensus process have continued working toward resolving various issues.⁴

³ Standardization of Small Generator Interconnection Agreements and Procedures, Notice of Proposed Rulemaking, 60 FR 49974 (Aug. 19, 2003), FERC Stats. & Regs. ¶ 32,572 (2003).

⁴ Standardization of Small Generator Interconnection Agreements and Procedures; Advance Notice of Proposed Rulemaking, 67 FR 54749 (Aug. 26, 2002), FERC Stats. & Regs. ¶ 35,544 (2002).

This notice gives interested parties the opportunity to share with the Commission meaningful progress that has been made by groups of stakeholders in resolving issues such as the appropriate technical standards for screens, the necessity for certain interconnection studies, and other modifications to proposed provisions. Commenters are invited to file joint supplemental comments with the Commission on or before October 1, 2004. The Commission will consider any new consensus proposals in the formulation of the Final Rule. However, the Commission will not consider comments that simply repeat prior arguments.

Linda Mitry,
Acting Secretary.

[FR Doc. 04-18892 Filed 8-16-04; 8:45 am]

BILLING CODE 6717-01-P